DEPARTMENT OF TRANSPORTATION

Federal Aviation Administration

14 CFR Part 39

[Docket No. FAA-2011-1420; Directorate Identifier 2011-CE-035-AD; Amendment 39-16905; AD 2011-27-04]

RIN 2120-AA64

Airworthiness Directives; Hawker Beechcraft Corporation Airplanes Equipped With a Certain Supplemental Type Certificate (STC)

AGENCY: Federal Aviation Administration (FAA), DOT.

ACTION: Final rule; correction.

SUMMARY: The FAA is correcting an airworthiness directive (AD) that published in the Federal Register. That AD applies to all Hawker Beechcraft Corporation Models 95-C55, D55, E55, 58, and 58A airplanes equipped with a certain STC. The description of the affected STCs in the first sentence of the SUPPLEMENTARY INFORMATION, Discussion section, is incorrect. This document corrects that error. In all other respects, the original document remains the same.

DATES: This final rule is effective March 5, 2012. The effective date for AD 2011-27-04 (76 FR 81790, December 29, 2011) remains December 29, 2011.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Eric B. Potter, Aerospace Engineer, Atlanta Aircraft Certification Office, FAA, 1701 Columbia Avenue, College Park, Georgia 30337; phone: (404) 474-5583; fax: (404) 474-5606; email: eric.potter@faa.gov.

SUPPLEMENTARY INFORMATION: Airworthiness Directive 2011-27-04, amendment 39-16905 (76 FR 81790, December 29, 2011), currently requires assuring the airspeed indicator(s) and/or airspeed limitations placard(s) have the correct minimum control speed (VMC) markings for all Hawker Beechcraft Corporation Models 95-C55, D55, E55, 58, and 58A airplanes equipped with a certain STC.

As published, the description of the affected STCs in the first sentence of the SUPPLEMENTARY INFORMATION, Discussion section, is incorrect.

No other part of the preamble or regulatory information has been changed; therefore, only the changed portion of the preamble to the final rule is being published in the Federal Register.

The effective date of this AD remains December 29, 2011.

Correction of Non-Regulatory Text

In the Federal Register of December 29, 2011, AD 2011-27-04; Amendment 39-16905 is corrected as follows:

On page 81790, in the third column, on line 2 under the heading SUPPLEMENTARY INFORMATION, Discussion, correct “, we found that STC SA1762SO (installation of vortex generators) and STC SA4016NM (Foxstar Baron modification of winglets and different engines and propellers) were installed.” to read “, we found that STC SA1762SO (Foxstar Baron modification of winglets and different engines and propellers) and STC SA4016NM (installation of vortex generators) were installed.”

Issued in Kansas City, Missouri, on February 23, 2012.
John Colomy,
Acting Manager, Small Airplane Directorate, Aircraft Certification Service.

[FR Doc. 2012-5290 Filed 3-2-12; 8:45 am]

BILLING CODE 4910-13-P